FEDERAL COMMUNICATIONS COMMISSION

47 CFR Part 73

[DA 01-2249; MM Docket No. 01-93; RM-10076]

Radio Broadcasting Services; McCall, ID and Pinesdale, MT

AGENCY: Federal Communications Commission.

ACTION: Final rule.

SUMMARY: In response to a proposal filed by Idaho Broadcasting Consortium, Inc., we will substitute Channel 294C1 for Channel 294C2 at McCall, Idaho, reallot Channel 294C1 to Pinesdale, Montana, and modify the authorization for Channel 294C2 to specify operation on Channel 294C1 at Pinesdale, Montana.¹ See 66 FR 27059, May 16, 2001. The coordinates for Channel 294C1 at Pinesdale are 46-10-07 and 114-17-06. 112-59-42. Although Canadian concurrence has been requested for the allotment of Channel 294C1 at Pinesdale, notification has not yet been received. Therefore, operation with the facilities specified for Pinesdale herein is subject to modification, suspension, or termination without right to a hearing, if found by the Commission to be necessary in order to conform to the 1991 Canada-USA FM Broadcast Agreement or if specifically objected to by Canada. With this action, this proceeding is terminated.

¹ Channel 294A was allotted to McCall, Idaho, in MM Docket No. 86-350, 52 FR 42438, November 5, 1987. Idaho Broadcasting Consortium, Inc. filed a first-come/first-serve application for the allotment at McCall as a C2 allotment in lieu of a Class A allotment. Idaho Broadcasting Consortium, Inc. was granted a construction permit for Channel 294C2 at McCall on December 8, 1999 (BPH-19971023MD). The Table of FM Allotments will be amended to reflect the substitution of Channel 294C2 for Channel 294A at McCall pursuant to the one-step application.

DATES: Effective November 12, 2001.

FOR FURTHER INFORMATION CONTACT: Kathleen Scheuerle, Mass Media Bureau, (202) 418-2180.

SUPPLEMENTARY INFORMATION: This is a summary of the Commission's Report and Order, MM Docket No. 01-93, adopted September 19, 2001, and released September 28, 2001. The full text of this Commission decision is available for inspection and copying during normal business hours in the Commission's Information Reference Center, Portals II, 445 12th Street, SW, Room Cy-A257, Washington, DC, 20554. This document may also be purchased from the Commission's duplicating contractor, Qualex International, Portals II, 445 12th Street, SW, Room CY-B402, Washington, DC. 20554, (202) 863-2893, facsimile (202) 863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Idaho, is amended by removing Channel 294A at McCall.

3. Section 73.202(b), the Table of FM Allotments under Montana, is amended by adding Pinesdale, Channel 294C1.

Federal Communications Commission.
John A. Karousos,
Chief, Allocations Branch, Policy and Rules Division, Mass Media Bureau.

[FR Doc. 01-26748 Filed 10-23-01; 8:45 am]

BILLING CODE 6712-01-P